SMALL BUSINESS ADMINISTRATION

[Disaster Declaration #17983; ILLINOIS Disaster Number IL-00080 Declaration of Economic Injury]

Administrative Declaration of an Economic Injury Disaster for the State of Illinois

AGENCY: U.S. Small Business Administration.

ACTION: Notice.

SUMMARY: This is a notice of an Economic Injury Disaster Loan (EIDL) declaration for the State of Illinois dated 07/03/2023.

Incident: Severe Storms.

Incident Period: 03/31/2023.

DATES: Issued on 07/03/2023.

Economic Injury (EIDL) Loan Application Deadline Date: 04/03/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street, SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Boone, DuPage, Lee, Sangamon.

Contiguous Counties:

Illinois: Bureau, Cass, Christian, Cook, Dekalb, Kane, Kendall, La Salle, Logan, Macon, Macoupin, McHenry, Menard, Montgomery, Morgan, Ogle, Whiteside, Will, Winnebago.

Wisconsin: Rock, Walworth.

The Interest Rates are:

| Percent
Businesses and Small Agricultural Cooperatives without Credit Available Elsewhere | 4.000
Non-Profit Organizations without Credit Available Elsewhere | 2.375

The number assigned to this disaster for economic injury is 179830.

The States which received an EIDL Declaration #17983 are Illinois, Wisconsin.

(Catalog of Federal Domestic Assistance Number 59008)

Isabella Guzman,
Administrator.

[FR Doc. 2023-14595 Filed 7-10-23; 8:45 am]

BILLING CODE 8026-09-P